DEPARTMENT OF TRANSPORTATION

Federal Railroad Administration

[Docket Number FRA-2000-7137]

Petition for Waiver of Compliance

In accordance with part 211 of Title 49 Code of Federal Regulations (CFR), this document provides the public notice that by a document dated February 24, 2016, petitioner San Diego Trolley Incorporated (SDTI) has petitioned the Federal Railroad Administration (FRA) for a waiver of compliance from certain provisions of the Federal railroad safety regulations contained at 49 CFR. FRA assigned the petition Docket Number FRA-2000-7137.

SDTI seeks a 5-year extension of its existing waiver of compliance with some modifications. The waiver covers several sections of Title 49 CFR and applies to certain portions of SDTI's light rail transit operations that employ temporal separation in order to safely share track with the general railroad system's San Diego and Imperial Valley Railroad. Contiguous to the shared trackage are portions with limited connections to the general railroad system, which include a small shared corridor with BNSF Railway and Coaster commuter train service (Coaster also shares a storage yard with SDTI). SDTI received its initial waiver and permission from the FRA on January 19, 2001; the waiver was extended for 5 years on September 11, 2006, to include minor operational changes and the waiver was recently extended for 5 years on June 22, 2011, (this most recent extension updated CFR section changes made since 2006). In 2012, SDTI received a separate waiver from FRA to operate its SD100 and S70 rolling stock at speeds that generate cant deficiency not exceeding 6 inches on its Orange Line joint use trackage. See Docket Number FRA-2012-0088. To simplify matters, SDTI now requests that the relief in both Dockets be combined and baselined in Docket FRA-2000-7137.

Based on the foregoing, SDTI seeks relief from the following parts and sections in 49 CFR: 213.57—Curves, elevation and speed limitations; Part 217—Railroad Operating Rules (except for 217.9(d)); 218.27(a)—Railroad Operating Practices (as granted in part and denied in part in FRA's January 19, 2001, decision letter); Part 219—Control of Drug and Alcohol Use; Part 220—Railroad Communications (as granted in part in FRA's January 19, 2001, decision letter); Part 221—Rear End Marking Device; 223.9(c) and 223.17—Identification of equipped locomotives; passenger cars and cabooses; 223.15(c)—Emergency Window Requirements and Emergency Exit Markings; Part 225—Railroad Accident/Incidents: Reports Classification, and Investigations (for employee injuries only); 229.46-229.59, 229.61, 229.65, 229.71, 229.71, 229.77, 229.125, and 229.135—Event recorders; 231.14—Passenger-train cars without end platforms; the following sections of Part 238—Passenger Equipment Safety Standards: 238.113, 238.114, 238.115(b)(4), 238.203, 238.205, 238.207, 238.209, 238.211, 238.213, 238.215, 238.217, 238.219, 238.231, 238.233, 238.235, 238.237, and part 238, Subpart D in its entirety, sections 238.301 through 238.319; Part 239—Passenger Train Emergency Preparedness; and Part 240—Qualification and Certification of Locomotive Engineers.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7137) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 5, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-06212 Filed 3-18-16; 8:45 am]

BILLING CODE 4910-06-P